DEPARTMENT OF ENERGY

Federal Energy Regulatory Commission

[Docket No. EL05-99-000]

LG&E Energy Marketing Inc., Louisville Gas & Electric Company, Kentucky Utilities Company, WKE Station Two Inc., Western Kentucky Energy Corporation; Notice of Institution of Proceeding and Refund Effective Date

May 12, 2005.

On May 5, 2005, the Commission issued an order that instituted a proceeding in Docket No. EL05-99-000, pursuant to section 206 of the Federal Power Act (FPA), 16 U.S.C. 824e, to determine whether LG&E Energy Marketing Inc., Louisville Gas & Electric Company, Kentucky Utilities Company, WKE Station Two Inc., and Western Kentucky Energy Corporation (LG&E Parties) may continue to charge market-based rates pursuant to the provisions of section 206. LG&E Energy Marketing Inc., et al., 111 FERC ¶ 61,153 (2005).

The refund effective date in Docket No. EL05-99-000, established pursuant to section 206(b) of the FPA, will be 60 days from the date of publication of this notice in the Federal Register.

Magalie R. Salas,
Secretary.

[FR Doc. E5-2538 Filed 5-19-05; 8:45 am]

BILLING CODE 6717-01-P